COMMODITY FUTURES TRADING COMMISSION

Sunshine Act Meeting

DATES: Time and Date: 11:00 a.m., Friday, June 21, 2002

PLACE: 1155 21st St., NW., Washington, DC., 9th Floor Conference Room.

Status: Closed.

Matters to be Considered: Surveillance Matters.

FOR FURTHER INFORMATION CONTACT: Jean A. Webb, 202-418-5100.

Jean A. Webb,
Secretary of the Commission.

[FR Doc. 02-12816 Filed 5-17-02; 2:40 pm]

BILLING CODE 6351-01-M